DEPARTMENT OF THE INTERIOR

Bureau of Indian Affairs

Customer Satisfaction Survey; Information Collection

AGENCY: Bureau of Indian Affairs, Interior.

ACTION: Notice of information collection.

SUMMARY: The Bureau of Indian Affairs of the Department of the Interior is preparing a customer satisfaction survey to determine the quality of its services and its program delivery. Our intent is to improve our services and program delivery based upon the results of these surveys. The Bureau of Indian Affairs is requesting comments about this customer satisfaction survey project.

DATES: The deadline for comments to be received is September 10, 2001.

ADDRESSES: Commenters may submit comments to the Bureau of Indian Affairs via electronic mail (email), telefax or postal mail for the duration of the comment period. Comments by email must refer to “Customer Satisfaction Survey comments” and be sent to this email address: jeanninebrooks@bia.gov. Comments by fax must refer to “Customer Satisfaction Survey comments” and faxed to (202) 208-6635. The postal mail address is Bureau of Indian Affairs, Office of Planning, Budget and Management Support, 1849 C Street, NW, MS 4612-MIB, Washington, DC 20240.

FOR FURTHER INFORMATION CONTACT: Jeannine Brooks, Supervisory Budget Analyst, Bureau of Indian Affairs, Office of Planning, Budget and Management Support, Branch of Strategic Planning, 1849 C Street, NW, MS 4612-MIB, Washington, DC 20240, (202) 219-1650; email: jeanninebrooks@bia.gov

SUPPLEMENTARY INFORMATION:

I. Background

The needs of the public in Indian Country are substantial. American Indians are younger and have higher levels of poverty, unemployment, single parent families, fertility and mortality than the U.S. population at large. Tribal self-determination relies on strong tribal self-governance and self-sufficiency.

The Bureau of Indian Affairs' mission statement is to fulfill its trust responsibilities and promote self-determination on behalf of tribal governments, American Indians and Alaska Natives. More specifically, the self-determination mission goal is to provide tribes with the resources they need to foster strong and stable tribal governments and exercise their authority as sovereign nations. The Community Development mission goal states that the Bureau of Indian Affairs will assist in strengthening tribal communities through the development of self-sustaining economies and improved human and physical infrastructure. To fulfill the mission statement and meet each of the Bureau of Indian Affairs' mission goals, the Bureau of Indian Affairs must deliver quality services and coordinate its work through government-to-government relationships with State, local and tribal governments. To evaluate the success of its efforts in meeting its goals and the needs of Indian Country, the Bureau of Indian Affairs is proposing to administer a series of customer satisfaction surveys. Within its major program areas, there are potentially several different types of customers. For example, the customers of the Bureau of Indian Affairs' Office of Tribal Services range from individual Indians and contractors to State and tribal governments.

Federal agencies are required by Federal Law and Executive Order to take certain steps to assure performance of Federal management objectives. The Government Performance and Results Act of 1993 (GPRA) requires agencies to take steps to measure their effectiveness in meeting their mission. In addition, Executive Order 12862 mandates that agencies take steps to survey customers to determine their desired services and their satisfaction with existing services. Customers will be provided 60 days to respond to the survey.

II. Discussion

A. Administrative Requirements

These information collections enable the Bureau of Indian Affairs to help the Department of the Interior meet the requirements of Executive Order 12862, Setting Customer Service Standards, which requires agencies to annually “survey customers to determine the kind and quality of services they want and their level of satisfaction with existing services.”

The Bureau of Indian Affairs customer satisfaction project will be administered by the Office of Planning, Budget and Management Support. All information provided through the surveys will be held in confidence and used only by the Office of Planning, Budget and Management Support for analysis. No identifying information will be shared with other offices within the Bureau of Indian Affairs. However, the Office of Planning, Budget and Management Support will share the results in report form with the Bureau of Indian Affairs management and its program areas without identifying specific sources.

The Office of Planning, Budget and Management Support will manage all aspects of the survey including dissemination, data analysis and results reporting. Approximately 6,500 surveys will be mailed to the customers. It is anticipated that between 2,500 to 3,000 respondents would be needed to make meaningful statements or analysis about customer satisfaction.

Any comments received during the public comment period will be considered in the development of the final survey instrument. Federal regulations require that agencies utilize such steps when developing any information collection from the public; regulations also require that such information collection be approved by the Office of Management and Budget (OMB) prior to collection. The Branch will present an information collection request to OMB which summarizes all steps taken related to the proposed surveys. As noted previously, the Bureau of Indian Affairs had several major program areas which provide public services. These range from trust responsibilities through law enforcement and human services. The Branch proposes to survey customers of all of the Bureau of Indian Affairs' service programs. The initial mission area to be examined will be the Office of Tribal Services. The Office of Tribal Services is a broad collection of programs and functions ranging from social services and housing to tribal courts.

B. Survey Content

This section reproduces the major questions of the proposed surveys. Comments are invited on the questions' content and verbiage. The reader should note that the Bureau of Indian Affairs plans to do a mail survey; because of formatting limitations with the Federal Register, the Bureau of Indian Affairs has not reproduced the visual format of the questions. The actual surveys will be more user friendly.

Office of Tribal Services Survey

The following questions will be repeated in the actual survey for the various segments of the Office of Tribal Services. For illustrative purposes in this Federal Register notice, the questions are reproduced for only one of the Tribal Service's functional areas.

1. In the past 12 months, I have contacted the Office of Tribal Services regarding:

Judicial Services; Self Determination; Contract Support issues; Tribal Enrollment; Tribal Relations; Tribal Federal Acknowledgment; Housing; Social Services: (for each, check one) Daily, Weekly, Monthly, Quarterly, Annually, None.

2. My primary contact with the Housing staff has been at the: (check one) Washington, DC Office; Regional Office; Agency/Field Station.

3. The staff I deal with most often is: (check one) Secretaries, Clerks, Office Assistants; Professional/Technical Staff; Managers, Office Supervisors; Don't Know.

4. The Housing staff is: Readily available; helpful; knowledgeable about their jobs; courteous/respectful (for each, check one) always, often, sometimes, rarely, never, don't know.

5. As far as the people handling the Branch of Housing are concerned, would you say that you have a great deal of confidence, only some confidence or hardly any confidence at all in them? (Check one) a great deal of confidence; only some confidence; hardly any confidence; don't know; not applicable.

6. The Branch of Housing: Is easy to contact; responds or takes action in a timely manner; provides accurate information; understands my needs; values me as a customer (for each, check one) always, often, sometimes, rarely, never, don't know.

7. For the past 12 months, I would rate the performance of the Branch of Housing in: listening to my comments or concerns; considering my comments or concerns; responding to information requests (check one for each) excellent, good, average, fair, poor, not applicable.

8. If the Branch of Housing's staff can make one improvement in its interaction with you, what should it be? (open-ended question)

9. One thing the Branch of Housing can do new or differently to aid its customers is to: (open-ended question).

10. Please share any additional comments you may have regarding the Branch of Housing. (open-ended question)

Questions 2 through 10 repeat for the following areas: Division of Self-Determination Services, Division of Acknowledgment and Research, Branch of Social Services, Branch of Judicial Services and Division of Tribal Government Services.

III. Request for Comments

This notice covers the main points of the proposed survey. During the comment period, anyone may submit comments or suggestions related to any aspect of the proposed information collection.

A. Areas for Comment

This notice covers the main points of the proposed survey. During the comment period, anyone may submit comments or suggestions related to any aspect of the proposed information collection. The results of the survey will be used by the Bureau of Indian Affairs to improve delivery of its services to its customers. This action and this notice follows the requirements of the Government Performance and Results Act of 1993 (GPRA), Executive Order 12862, and the Paperwork Reduction Act of 1995. The Bureau will consider the comments received, make any warranted changes to its survey, and submit the information collection package to the Office of Management and Budget for approval. No survey will be conducted until we have received approval from the Office of Information and Regulatory Affairs, Office of Management and Budget. The surveys will display the OMB Control number and expiration date.

The Bureau of Indian Affairs invites your comments on the information collection concerning:

(a) Is the information necessary for the proper performance of the Bureau's functions?

(b) Is the request duplicated elsewhere?

(c) Is the request burdensome, hard to understand?

(d) Does it inform the respondent of the reason for collection, give a realistic time to complete the survey, inform the respondent whether the response is voluntary, mandatory, or required for a benefit, whether a copy must be retained and the length of time?

(e) Can the survey use any other information technology to lessen the respondent's burden?

B. Flexibility

The Bureau of Indian Affairs is considering ways to increase flexibility, including considering the possibility of allowing electronic returns. We estimate that 95 percent of surveys will be distributed by the Bureau of Indian Affairs and returned to it via postal mail. A small percent (5 percent) is expected to be returned via telefax. Of those sent and/or returned electronically, we expect those respondents to be organizational entities such as tribal governments or State governments.

C. Burden

Type of Action: New collection.

Title: Customer Satisfaction Survey.

Target Public: Tribes, Individual Indians and Alaska Natives, Individuals and Groups petitioning for Federal recognition, State and local offices.

Description of Collection: Survey of customer satisfaction with levels of services provided.

Number of Respondents: The Office of Planning, Budget and Management Support estimates that approximately 2,500 to 3,000 responses will be needed to complete an analysis for a major Bureau of Indian Affairs program area.

We estimate that completion of a survey will take 24 minutes per respondent; this figure includes time to read the introductory postcard, time to read and complete the survey, and time to mail the survey. As planned, we will provide a self-addressed stamped envelope for the survey to be returned; we believe that will aid in the response rate and minimize the burden on respondents.

Annual Burden: 2500 respondents × 24 minutes = 1000 hours with negligible costs.

Dated: June 1, 2001.
James H. McDivitt
Deputy Assistant Secretary—Indian Affairs (Management).

[FR Doc. 01-16804 Filed 7-11-01; 8:45 am]

BILLING CODE 4310-02-P